DEPARTMENT OF COMMERCE

International Trade Administration

[A-580-816]

Corrosion-Resistant Carbon Steel Flat Products From Korea: Notice of Extension of Time Limit for the Preliminary Results of Antidumping Duty New Shipper Review

AGENCY: Import Administration, International Trade Administration, Department of Commerce.

ACTION: Notice of extension of time limit for the preliminary results of antidumping duty new shipper review.

EFFECTIVE DATE: March 24, 2004.

SUMMARY: The Department of Commerce (“the Department”) is extending the time limit for the preliminary results of the new shipper review of the antidumping duty order on corrosion-resistant carbon steel flat products (“CORE”) from Korea until no later than July 22, 2004. The new shipper review covers one producer/exporter, Hyundai Hysco (“Hysco”). The period of review is August 1, 2002, through July 31, 2003. This extension is made pursuant to section 751(a)(2)(B)(iv) of the Tariff Act of 1930, as amended.

FOR FURTHER INFORMATION CONTACT: Michael Ferrier or Paul Walker, AD/CVD Enforcement, Group III, Office 9, Import Administration, International Trade Administration, U.S. Department of Commerce, 14th Street and Constitution Avenue, NW., Washington DC 20230; telephone: (202) 482-2667 and (202) 482-0413, respectively.

Background

On August 29, 2003, the Department received a timely request from Hysco in accordance with 19 CFR 351.214(c), for a new shipper review of the antidumping duty order on CORE from Korea, which has an August anniversary date. Hysco identified itself as a producer/exporter of CORE and its subsidiary, Hyundai Pipe America (“HPA”), as its importer of CORE.

On October 3, 2003, the Department published a notice of initiation of a new shipper review of CORE from Korea covering the period August 1, 2002 through July 31, 2003. See Corrosion-Resistant Carbon Steel Flat Products from Korea: Initiation of New Shipper Antidumping Duty Review, 68 FR 57423 (October 3, 2003).

Extension of Time Limit for Final Results of New Shipper Review

Section 351.214(i)(1) of the Act provides that the Department will issue the preliminary results of a new shipper review within 180 days after the date the new shipper review was initiated. If the Department determines that a new shipper review is extraordinarily complicated, however, § 351.214(i)(2) of the Act allows the Department to extend the deadline for the preliminary results to up to 300 days after the date the new shipper review was initiated. The Department has determined that this case is extraordinarily complicated, and the preliminary results of this new shipper review cannot be completed within 180 days from the date on which the new shipper review was initiated. Specifically, the Department finds that this new shipper review is extraordinarily complicated because the Department is collecting and analyzing detailed data pertaining to multiple-stage production costs. In addition, the Department is analyzing home market sales of subject merchandise for further processing into non-subject merchandise and subsequent export, as well as issues related to scope exclusions of certain products.

Therefore, given the number and complexity of issues in this case, and in accordance with § 351.214(i)(2) of the Act, we are extending the time period for issuing the preliminary results of review by 120 days until July 22, 2004. The final results continue to be due 90 days after the publication of the preliminary results, unless otherwise extended.

Dated: March 18, 2004.
Joseph A. Spetrini,
Deputy Assistant Secretary for Import Administration, Group III.

[FR Doc. 04-6612 Filed 3-23-04; 8:45 am]

BILLING CODE 3510-DS-P